ENVIRONMENTAL PROTECTION AGENCY

[EPA-HQ-OAR-2003-0073; FRL-9530-6]

Information Collection Request Submitted to OMB for Review and Approval; Comment Request; Distribution of Offsite Consequence Analysis Information Under the Clean Air Act (CAA) (Renewal)

AGENCY: Environmental Protection Agency (EPA).

ACTION: Notice.

SUMMARY: The Environmental Protection Agency has submitted an information collection request (ICR), Distribution of Offsite Consequence Analysis Information under Section 112(r)(7)(H) of the Clean Air Act (CAA) (Renewal) (EPA ICR No. 1981.05, OMB Control No. 2050-0172) to the Office of Management and Budget (OMB) for review and approval in accordance with the Paperwork Reduction Act (44 U.S.C. 3501 et seq.). This is a proposed extension of the ICR, which is currently approved through June 30, 2013. Public comments were previously requested via the Federal Register (78 FR 2992) on January 15, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 7, 2013.

ADDRESSES: Submit your comments, referencing Docket ID Number, EPA-HQ-OAR-2003-0073 to (1) EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, Mail Code 5104A, Environmental Protection Agency, 1200 Pennsylvania Ave. NW., Washington, DC 20460; telephone number: (202) 564-8019; fax number: (202) 564-2620; email address: jacob.sicy@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The Clean Air Act (CAA) section 112(r)(7) required EPA to promulgate reasonable regulations and appropriate guidance to provide for the prevention and detection of accidental releases and for responses to such releases. The regulations include requirements for submittal of a risk management plan (RMP) to EPA. The RMP includes information on offsite consequence analyses (OCA) as well as other elements of the risk management program.

The Chemical Safety Information, Site Security, and Fuels Regulatory Relief Act (CSISSFRRA) required the President to promulgate regulations on the distribution of OCA information (CAA section 112(r)(7)(H)(ii)). The state and local agencies who decide to obtain OCA information must send a written request on their official letterhead to EPA certifying that they are covered persons under Public Law 106-40, and that they will use the information for official use only. EPA will then provide OCA data to those agencies as requested. The rule authorizes and encourages state and local agencies to set up reading rooms. The local reading rooms provide read-only access to OCA information for all the sources in the Local Emergency Planning Committee's (LEPC) jurisdiction and for any source where the vulnerable zone extends into the LEPC's jurisdiction.

Form Numbers: None.

Respondents/affected entities: States, local agencies and members of the public.

Respondent's obligation to respond: Voluntary.

Estimated number of respondents: 865.

Frequency of response: Annual, On Occasion.

Total estimated burden: 1,515 hours (per year). Burden is defined at 5 CFR 1320.3(b).

Total estimated cost: $48,919 per year, includes $65 annualized capital or operation & maintenance costs.

Changes in the Estimates: There is a decrease of 7,815 hours in the total estimated respondent burden compared with the ICR currently approved by OMB. There has been a decrease in the number of people visiting the reading rooms to obtain OCA data, therefore decreasing the burden on respondents to provide the data.

John Moses,
Director, Collection Strategies Division.

[FR Doc. 2013-10886 Filed 5-7-13; 8:45 am]

BILLING CODE 6560-50-P